SMALL BUSINESS ADMINISTRATION

[Declaration of Disaster #3638]

State of South Carolina

As a result of the President's major disaster declaration on October 7, 2004, I find that Calhoun, Cherokee, Chester, Chesterfield, Clarendon, Darlington, Dillon, Fairfield, Florence, Greenville, Horry, Kershaw, Lancaster, Lee, Lexington, Marion, Marlboro, Newberry, Oconee, Pickens, Richland, Spartanburg, Sumter, Williamsburg, and York Counties in the State of South Carolina constitute a disaster area due to damages caused by Tropical Storm Frances occurring on September 6, 2004, and continuing. Applications for loans for physical damage as a result of this disaster may be filed until the close of business on December 6, 2004 and for economic injury until the close of business on July 7, 2005 at the address listed below or other locally announced locations: U.S. Small Business Administration, Disaster Area 2 Office, One Baltimore Place, Suite 300, Atlanta, GA 30308.

In addition, applications for economic injury loans from small businesses located in the following contiguous counties may be filed until the specified date at the above location: Abbeville, Aiken, Anderson, Berkeley, Georgetown, Greenwood, Laurens, Orangeburg, Saluda and Union in the State of South Carolina; Franklin, Habersham, Hart, Rabun, and Stephens Counties in the State of Georgia; Anson, Brunswick, Cleveland, Columbus, Gaston, Henderson, Jackson, Macon, Mecklenburg, Polk, Richmond, Robeson, Rutherford, Scotland, Transylvania, and Union Counties in the State of North Carolina.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 363808. For economic injury the number is 9AE500 for South Carolina; 9AE600 for Georgia; and 9AE700 for North Carolina.

(Catalog of Federal Domestic Assistance Program Nos. 59002 and 59008)

Dated: October 12, 2004.
Herbert L. Mitchell,
Associate Administrator for Disaster Assistance.

[FR Doc. 04-23276 Filed 10-15-04; 8:45 am]

BILLING CODE 8025-01-P